DEPARTMENT OF LABOR

Employment and Training Administration

[TA-W-59,278]

Rexnord Industries, Inc., Coupling Group, Warren, PA; Notice of Termination of Investigation

Pursuant to section 221 of the Trade Act of 1974, as amended, an investigation was initiated on April 25, 2006 in response to a worker petition filed the International Association of Machinists and Aerospace Workers on behalf of workers at Rexnord Industries, Inc., Coupling Group, Warren, Pennsylvania. Workers at the site produced flexible couplings; production shut down in late 2005.

The Department issued a negative determination (TA-W-58,943) applicable to the petitioning group of workers on April 11, 2006. No new information or change in circumstances is evident which would result in a reversal of the Department's previous determination. Consequently, further investigation would serve no purpose, and the investigation has been terminated.

Signed at Washington, DC, this 18th day of May 2006.
Richard Church,
Certifying Officer, Division of Trade Adjustment Assistance.

[FR Doc. E6-8945 Filed 6-7-06; 8:45 am]

BILLING CODE 4510-30-P